DEPARTMENT OF EDUCATION

Office of Elementary and Secondary Education; Impact Aid Program—American Recovery and Reinvestment Act of 2009—Impact Aid Discretionary Construction Program

ACTION: Notice inviting applications for new awards under the American Recovery and Reinvestment Act of 2009—Impact Aid Discretionary Construction Program; Correction.

SUMMARY: On August 17, 2009, we published in the Federal Register (74 FR 41407) a notice inviting applications for new awards under the American Recovery and Reinvestment Act of 2009—Impact Aid Discretionary Construction Program. The notice specified a deadline of October 1, 2009 for the submission of applications. Since publication, however, we have learned that the Department's e-Application system will be shut down on October 1 in connection with the Department's transition of its systems to the new fiscal year, which begins on October 1. Therefore, we are correcting the deadline for the submission of applications to October 8, 2009.

On page 41407, first column, the date listed for Deadline for Transmittal of Applications is corrected to read “October 8, 2009.” On page 41407, first column, the date listed for Deadline for Intergovernmental Review is corrected to read “December 7, 2009.” On page 41408, first column, the date listed for Deadline for Transmittal of Applications is corrected to read “October 8, 2009.” On page 41408, first column, the date listed for Deadline for Intergovernmental Review is corrected to read “December 7, 2009.”

FOR FURTHER INFORMATION CONTACT: Kristen Walls-Rivas, Impact Aid Program, U.S. Department of Education, 400 Maryland Avenue, SW., Room 3C155, Washington, DC 20202-6244. Telephone: (202) 260-3858 or by e-mail: Impact.Aid@ed.gov.

If you use a TDD, call the FRS, toll free, at 1-800-877-8339.

Accessible Format: Individuals with disabilities can obtain this document and a copy of the application package in an accessible format (e.g., braille, large print, audiotape, or computer diskette) on request to the program contact person listed under FOR FURTHER INFORMATION CONTACT in this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 20, 2009.
Thelma Meléndez de Santa Ana,
Assistant Secretary for Elementary and Secondary Education.

[FR Doc. E9-20502 Filed 8-24-09; 8:45 am]

BILLING CODE 4000-01-P